DEPARTMENT OF TRANSPORTATION

Surface Transportation Board

[STB Finance Docket No. 35247]

Grenada Railway, LLC—Acquisition and Operation Exemption—Illinois Central Railroad Company and Waterloo Railway Company

Grenada Railway, LLC (Grenada), a noncarrier, has filed a verified notice of exemption under 49 CFR 1150.31 to acquire (by purchase) from the Illinois Central Railroad Company (ICR) and to operate a rail line approximately 175.4 miles long between milepost 403.0, at Southhaven, and milepost 703.8, near Canton, and to acquire from Waterloo Railway Company and to operate a connecting rail line approximately 11.42 miles long between milepost 603.0, at Water Valley Junction, and milepost 614.42, at Bruce Junction. All of the rail lines are located in the State of Mississippi.

Pursuant to the purchase agreement, ICR granted Grenada the right to operate on its tracks to Memphis, TN, on the north, and to Canton on the south for the sole purpose of interchanging traffic with ICR. Also, ICR will retain overhead trackage rights on the line of railroad it is selling to Grenada.

This transaction is related to a concurrently filed verified notice of exemption in STB Finance Docket No. 35249, Kern W. Schumacher—Continuance in Control Exemption—Grenada Railway, LLC and Natchez Railway, LLC, wherein Kern W. Schumacher seeks to continue in control of Grenada and Natchez Railway, LLC (Natchez), upon their becoming Class III rail carriers.¹

¹ STB Finance Docket No. 35249 is also related to STB Finance Docket No. 35248, Natchez Railway, LLC—Acquisition and Operation Exemption—Illinois Central Railroad Company, wherein Natchez seeks to acquire from ICR and to operate approximately 65.6 miles of rail line in Natchez, MS.

The transaction is expected to be consummated on or shortly after June 12, 2009 (30 days after the notice of exemption was filed).

Grenada certifies that its projected annual revenues as a result of the transaction will not result in Grenada becoming a Class II or Class I rail carrier, but a Class III rail carrier. Grenada further certifies that its projected annual revenues upon becoming a Class III rail carrier will not exceed $5 million.

Pursuant to the Consolidated Appropriations Act, 2008, Public Law 110-161, section 193, 121 Stat. 1844 (2007), nothing in this decision authorizes the following activities at any solid waste rail transfer facility: Collecting, storing, or transferring solid waste outside of its original shipping container; or separating or processing solid waste (including baling, crushing, compacting, and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions for stay must be filed no later than June 5, 2009 (at least 7 days before the exemption becomes effective).

An original and 10 copies of all pleadings, referring to STB Finance Docket No. 35247 must be filed with the Surface Transportation Board, 395 E Street, SW., Washington, DC 20423-0001. In addition, a copy must be served on Fritz R. Kahn, Fritz R. Kahn, P.C., 1920 N Street, NW., Eighth Floor, Washington, DC 20036.

Board decisions and notices are available on our Web site at http://www.stb.dot.gov.

Decided: May 21, 2009.
By the Board, Rachel D. Campbell, Director, Office of Proceedings.
Kulunie L. Cannon,
Clearance Clerk.

[FR Doc. E9-12365 Filed 5-28-09; 8:45 am]

BILLING CODE 4915-01-P